DEPARTMENT OF COMMERCE

National Oceanic and Atmospheric Administration

RIN: 0648-XG89

Fisheries of the South Atlantic, Gulf of Mexico, and Caribbean; Southeastern Data, Assessment, and Review (SEDAR); Public Meeting

AGENCY: National Marine Fisheries Service (NMFS), National Oceanic and Atmospheric Administration (NOAA), Commerce.

ACTION: Notice of the SEDAR Steering Committee meeting.

SUMMARY: The SEDAR Steering Committee will meet to discuss the SEDAR schedule through 2014, consider modifications to the SEDAR process, and receive updates on recent assessment activities. See SUPPLEMENTARY INFORMATION.

DATES: The SEDAR Steering Committee will meet on Monday, May 5, 2008, from 9 a.m. to 5 p.m.

ADDRESSES: The meeting will be held at the Marriott Frenchmen's Reef, 5 Estate Bakkeroe, St. Thomas, USVI; telephone: (340) 776-8500.

Council address: South Atlantic Fishery Management Council, 4055 Faber Place, Suite 201, North Charleston, SC 29405.

FOR FURTHER INFORMATION CONTACT: John Carmichael, Science and Statistics Program Manager, SEDAR/SAFMC; telephone: (843) 571-4366 or toll free (866) SAFMC-10; fax: (843) 769-4520.

SUPPLEMENTARY INFORMATION: The South Atlantic, Gulf of Mexico, and Caribbean Fishery Management Councils; in conjunction with NOAA Fisheries, the Atlantic States Marine Fisheries Commission, and the Gulf States Marine Fisheries Commission; implemented the Southeast Data, Assessment and Review (SEDAR) process, a multi-step method for determining the status of fish stocks. The SEDAR Steering Committee provides oversight of the SEDAR process, establishes assessment priorities, and provides coordination between assessment efforts and management activities. The SEDAR Steering Committee meets twice annually.

During this meeting, the Steering Committee will consider scheduling benchmark assessments during 2009-14 and update assessments in 2009 and 2010. The Committee will also review recent activities, receive a progress report on staffing levels, and review the SEDAR guidelines.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to the South Atlantic Fishery Management Council office (see ADDRESSES) at least 3 weeks prior to the meeting.

Dated: April 1, 2008.
Tracey L. Thompson,
Acting Director, Office of Sustainable Fisheries, National Marine Fisheries Service.

[FR Doc. E8-6981 Filed 4-3-08; 8:45 am]

BILLING CODE 3510-22-S